DEPARTMENT OF TRANSPORTATION

Federal Highway Administration

Environmental Impact Statement: City of Manassas and Fairfax, Prince William and Loudoun Counties, VA

AGENCY: Federal Highway Administration.

ACTION: Notice of intent.

SUMMARY: The Federal Highway Administration (FHWA) is issuing this notice to advise the public of its intent to prepare an Environmental Impact Statement (EIS) for the Tri-County Parkway. The Tri-County Parkway has been conceptually conceived as a 10-mile long, four to six lane controlled access facility on new location linking Route 234 (Sudley Road) in the City of Manassas and Braddock Road in Loudoun County. The project is intended to address the need to accommodate projected growth and travel in the region over the next twenty years. Three public scoping meetings have been scheduled, one each in Fairfax, Prince William and Loudoun County, as part of the National Environmental Policy Act (NEPA) process to facilitate coordination and identify all of the issues that need to be addressed and taken into consideration in the EIS. These meetings will be held from March 19-21, 2002, from 5 p.m. to 7 p.m. at the following locations as part of the preparation of the EIS:

March 19, 2002—Westfield High School, 4700 Stonecroft Road, Chantilly, VA;

March 20, 2002—Arcola Elementary School, 24328 Goshen Road, Arcola, VA;

March 21, 2002—Stonewall Jackson H.S., 8820 Rixlew Lane, Manassas, VA;

One agency scoping meeting will be held on March 20, 2002, at 1 p.m. at the VDOT Northern Virginia District Office in Chantilly at 14685 Avion Parkway.

FOR FURTHER INFORMATION CONTACT: Edward Sundra, Senior Environmental Specialist, Federal Highway Administration, Post Office Box 10249, Richmond, Virginia 23240-0249, Telephone 804-775-3338; or Ken Wilkinson, Environmental Program Planner, Virginia Department of Transportation, 1401 East Broad Street, Richmond, Virginia, 23219-2000, Telephone 804-371-6758.

SUPPLEMENTARY INFORMATION: With this notice of intent, FHWA in cooperation with the VDOT, is initiating the NEPA process to prepare an EIS for the proposed Tri-County Parkway to address the need to accommodate projected growth and travel in the region. Section 4(f) of the Department of Transportation Act of 1966 may also be invoked as a result of the proposed project in which case a section 4(f) Evaluation will be prepared and included as part of the EIS.

Recognizing that NEPA requires the consideration of a reasonable range of alternatives that will address the purpose and need, the EIS will include a range of alternatives for detailed study consisting of the no-build alternative, transportation system management strategies, mass transit, and the improvement/upgrade of existing roadways (a.k.a. the low-build alternative). In addition, new location build alternatives will be developed, screened, and carried forward for detailed analysis in the draft EIS based on their ability to address the purpose and need while avoiding, minimizing, and mitigating impacts to known and sensitive resources to the extent practical.

Letters describing the proposed NEPA study and soliciting input will be sent to the appropriate Federal, State and local agencies and to organizations and citizens who have expressed or are known to have an interest or legal role in this proposal. A series of scoping meetings will be held as part of the NEPA process to facilitate local, state, and federal agency involvement and input into the project in an effort to identify all of the issues that need to be addressed in the EIS. The time and location of these scoping meetings is described above.

Private organizations, citizens, and interest groups will also have multiple opportunities to provide input into the development of the EIS. Two rounds of three Citizen Participation Meetings each will be held during the development of the draft EIS. During each round, a meeting will be held in each of the three countries traversed by the project—Fairfax, Prince William and Loudoun. The first round of meetings will occur early in the study to introduce the project to the public, provide a purpose and need, suggest conceptual alternatives, and solicit public input regarding project purpose, need and solutions. The second round of meetings will occur midway in the process when conceptual alternatives have been screened and a higher level of information regarding alternatives and impacts can be presented to the public. The location and times for these meetings has not yet been determined, but this information will be conveyed to the public at the appropriate time by way of a comprehensive public participation program which will include a telephone hotline, press releases, post cards, a web page, and newsletters.

Once a draft EIS is completed, it will be made available to the public for review and comment. Three Location Public Hearings will be held following completion of the draft EIS, one in each county at a location and time to be determined.

To ensure that the full range of issues related to this proposed action are identified and considered, comments and suggestions in response to this Notice of Intent are invited from all interested parties. Comments and questions concerning the proposed action and draft EIS should be directed to FHWA or VDOT at the addresses provided above. There will be several opportunities to provide comments throughout the scoping process, but all comments in response to this notice should be submitted within 30 days of its publication.

(Catalog of Federal Domestic Assistance Program Number 20.205, Highway Planning and Construction; 20.500, Federal Transit Administration Capital Grants. The regulations implementing Executive Order 12372 regarding intergovernmental consultation on Federal programs and activities apply to this proposed action)

]

Authority: 23 U.S.C. 315; 49 CFR 1.48

Issued on: February 19, 2002.
Edward S. Sundra,
Senior Environmental Specialist, Federal Highway Administration.

[FR Doc. 02-5516 Filed 3-7-02; 8:45 am]

BILLING CODE 4910-22-M